DEPARTMENT OF TRANSPORTATION

Federal Motor Carrier Safety Administration

[Docket ID FMCSA-2009-0054]

Qualification of Drivers; Exemption Applications; Vision

AGENCY: Federal Motor Carrier Safety Administration (FMCSA), DOT.

ACTION: Notice of applications for exemptions; request for comments.

SUMMARY: FMCSA announces receipt of applications from 17 individuals for exemption from the vision requirement in the Federal Motor Carrier Safety Regulations. If granted, the exemptions would enable these individuals to qualify as drivers of commercial motor vehicles (CMVs) in interstate commerce without meeting the Federal vision standard.

DATES: Comments must be received on or before April 20, 2009.

ADDRESSES: You may submit comments bearing the Federal Docket Management System (FDMS) Docket ID FMCSA-2009-0054 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://Docketsinfo.dot.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 17 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Dan B. Clark

Mr. Clark, age 44, has loss of vision in his right eye due to a traumatic injury sustained in 2004. The best corrected visual acuity in his right eye is 20/400 and in his left eye, 20/20. Following an examination in 2008, his ophthalmologist noted, “Given the visual function with your left eye, you have sufficient vision to perform the driving tasks required to operate the commercial vehicle.” Mr. Clark reported that he has driven tractor-trailer combinations for 16 years, accumulating 640,000 miles. He holds a Class A commercial driver's license (CDL) from Ohio. His driving record for the last 3 years shows no crashes and one conviction for a moving violation, speeding in a CMV. He exceeded the speed limit by 9 mph.

Mark A. Cruz

Mr. Cruz, 25, has a retinal lesion in his right eye due to a traumatic injury sustained in 1998. The best corrected visual acuity in his right eye is 20/200 and in his left eye, 20/20. Following an examination in 2008, his optometrist noted, “It is my opinion that Mr. Cruz does in fact have sufficient visual acuity and visual field to operate a commercial vehicle.” Mr. Cruz reported that he has driven straight trucks for 3 years, accumulating 36,000 miles. He holds a Class C operator's license from Maryland. His driving record for the last 3 years shows no crashes and no convictions for moving violations in a CMV.

Terry J. Dare

Mr. Dare, 44, has loss of vision in his right eye due to a central scotoma that occurred as a result of a traumatic injury sustained in 1970. The visual acuity in his right eye is count-fingers and in his left eye, 20/15. Following an examination in 2008, his ophthalmologist noted, “It is my opinion that there is no deficiency to prohibit him from driving a commercial vehicle.” Mr. Dare reported that he has straight trucks for 25 years, accumulating 125,000 miles. He holds an operator's license from Indiana. His driving record for the last 3 years shows no crashes and no convictions for moving violations in a CMV.

Frank A. DeWitt

Mr. DeWitt, 47, has loss of vision in his left eye due to a traumatic injury sustained in 1995. The best corrected visual acuity in his right eye is 20/20 and in his left eye, 20/50. Following an examination in 2008, his optometrist noted, “In my professional opinion, Mr. DeWitt is capable of recognizing the colors of the traffic signals, and is capable to perform the tasks that are required to operate a commercial vehicle.” Mr. DeWitt reported that he has driven straight trucks for 5 years, accumulating 150,000 miles, and tractor-trailer combinations for 4 years, accumulating 4.0 million miles. He holds a chauffeur operator's license from Indiana. His driving record for the last 3 years shows no crashes and no convictions for moving violations in a CMV.

Kenneth E. Flack, Jr.

Mr. Flack, 40, has loss of vision in his right eye due to retinal scarring from an ocular injury sustained in 1992. The best corrected visual acuity in his right eye is 20/400 and in his left eye, 20/20. Following an examination in 2008, his optometrist noted, “I believe he does have the vision needed in order to operate a commercial vehicle.” Mr. Flack reported that he has driven straight trucks for 24 years, accumulating 240,000 miles. He holds a Class D operator's license from Alabama. His driving record for the last 3 years shows no crashes and no convictions for a moving violation in a CMV.

Maylin E. Frickey

Mr. Frickey, 59, has a prosthetic right eye due to traumatic injury sustained in 1963. The best corrected visual acuity in his left eye, 20/20. Following an examination in 2008, his optometrist noted, “In my medical opinion, Mr. Frickey has sufficient vision to properly operate a commercial vehicle.” Mr. Frickey reported that he has driven straight trucks for 17 years, accumulating 816,000 miles, and tractor-trailer combinations for 12 years, accumulating 720,000 miles. He holds a Class A CDL from Oregon. His driving record for the last 3 years shows no crashes and one conviction for a moving violation, speeding in a CMV. He exceeded the speed limit by 15 mph.

Vincent E. Hardin

Mr. Hardin, 49, has complete loss of vision in his right eye due to a traumatic injury sustained in 1998. The best corrected visual acuity in his left eye is 20/20. Following an examination in 2008, his optometrist noted, “In my medical opinion, Mr. Hardin has sufficient vision to perform driving tasks required to operate many commercial vehicles.” Mr. Hardin reported that he has driven straight trucks for 10 years, accumulating 98,000 miles. He holds a Class D operator's license from Alabama. His driving record for the last 3 years shows no crashes and no convictions for moving violations in a CMV.

Larry M. Hawkins

Mr. Hawkins, 56, has loss of vision in his right eye due to a corneal scar from a chemical burn sustained in 1991. The best corrected visual acuity in his right eye is light perception and in his left eye, 20/15. Following an examination in 2008, his optometrist noted, “In my opinion, Larry Hawkins has sufficient vision to drive commercial vehicles safely with his present vision.” Mr. Hawkins reported that he has driven straight trucks for 35 years, accumulating 700,000 miles, and tractor-trailer combinations for 18 years, accumulating 900,000 miles.

He holds a Class A CDL from Arizona. His driving record for the last 3 years shows no crashes and no convictions for moving violations in a CMV.

Ronald R. Hunt

Mr. Hunt, 66, has had amblyopia in his left eye since early childhood. The best corrected visual acuity in his right eye is 20/25 and in his left eye, 20/200. Following an examination in 2009, his optometrist noted, “It is my opinion that Mr. Hunt has sufficient vision to perform the driving tasks required to operate a commercial vehicle.” Mr. Hunt reported that he has driven straight trucks for 10 years, accumulating 183,000 miles, and tractor-trailer combinations for 30 years, accumulating approximately 2.8 million miles. He holds a Class A CDL from Utah. His driving record for the last 3 years shows no crashes and one conviction for a moving violation, speeding in a CMV. He exceeded the speed limit by 11 mph.

Michael E. Lafferty

Mr. Lafferty, 52, has loss of vision in his right eye due to a traumatic injury sustained in 1983. The best corrected visual acuity in his right eye is light perception and in his left eye, 20/20. Following an examination in 2008, his optometrist noted, “In my medical opinion, Mr. Lafferty has the visual capability to operate a commercial vehicle.” Mr. Lafferty reported that he has driven straight trucks for 34 years, accumulating 340,000 miles, and tractor-trailer combinations for 34 years, accumulating 680,000 miles. He holds a Class A CDL from Idaho. His driving record for the last 3 years shows no crashes and no convictions for moving violations in a CMV.

Michael A. Mitchell

Mr. Mitchell, 41, has a prosthetic right eye due to a traumatic injury sustained at age 5. The best corrected visual acuity in his left eye is 20/20. Following an examination in 2008, his ophthalmologist noted, “In my medical opinion, Mr. Michael Mitchell has the vision required to operate a commercial vehicle.” Mr. Mitchell reported that he has driven straight trucks for 20 years, accumulating 1.0 million miles, and tractor-trailer combinations for 10 years, accumulating 200,000 miles. He holds a Class A CDL from Mississippi. His driving record for the last 3 years shows no crashes and no convictions for moving violations in a CMV.

Eric E. Myers

Mr. Myers, 47, has had amblyopia in his right eye since childhood. The best corrected visual acuity in his right eye is 20/150 and in his left eye, 20/20. Following an examination in 2009, his ophthalmologist noted, “I feel he has sufficient vision to operate a commercial vehicle and obtain a vision waiver pursuant to Article VISION 391.41(b)(10) for an exemption under controlling authority at 49 U.S.C. 31136(e) and 31315.” Mr. Myers reported that he has driven straight trucks for 23½ years, accumulating 1.1 million miles. He holds a Class C operator's license from Maryland. His driving record for the last 3 years shows no crashes and one conviction for a moving violation, speeding in a CMV. He exceeded the speed limit by 10 mph.

Travis W. Neiwert

Mr. Neiwert, 42, has complete loss of vision in his right eye due to a traumatic injury sustained at age 4. The best corrected visual acuity in his left eye is 20/20. Following an examination in 2008, his optometrist noted, “I do not see any issues that would limit his ability to operate a commercial vehicle. He has worked with having vision in only one eye since his youth and uses head movement to increase his field of vision.” Mr. Neiwert reported that he has driven straight trucks for 12 years, accumulating 634,400 miles. He holds a Class B CDL from Idaho. His driving record for the last 3 years shows no crashes and no convictions for moving violations in a CMV.

Michael G. Trueblood

Mr. Trueblood, 59, has loss of vision in his left eye due to an optic nerve anomaly since birth. The best corrected visual acuity in his right eye is 20/15 and in his left eye, 20/400. Following an examination in 2008, his optometrist noted, “I certify that in my opinion, Michael Trueblood has sufficient vision to perform the driving tasks required to operate a commercial vehicle.” Mr. Trueblood reported that he has driven straight trucks for 14½ years, accumulating 514,750 miles. He holds a Class B CDL from Illinois. His driving record for the last 3 years shows no crashes and no convictions for moving violations in a CMV.

Donald A. Uplinger, II

Mr. Uplinger, 59, has had amblyopia in his left eye since childhood. The best corrected visual acuity in his right eye is 20/20 and in his left eye, 20/200. Following an examination in 2008, his optometrist noted, “He does have sufficient vision to operate a commercial vehicle.” Mr. Uplinger reported that he has tractor-trailer combinations for 38 years, accumulating 2.9 million miles. He holds a Class A CDL from Ohio. His driving record for the last 3 years shows no crashes and no convictions for moving violations in a CMV.

Steven M. Vujicic

Mr. Vujicic, 28, has had amblyopia in his right eye since childhood. The best corrected visual acuity in his right eye is 20/80 and in his left eye, 20/20. Following an examination in 2008, his ophthalmologist noted, “He does have sufficient vision to perform the driving tasks required to operate a commercial vehicle.” Mr. Vujicic reported that he has tractor-trailer combinations for 4 years, accumulating 165,000 miles. He holds a Class A CDL from Illinois. His driving record for the last 3 years shows no crashes and no convictions for moving violations in a CMV.

Joseph Watkins

Mr. Watkins, 46, has loss of vision in his right eye due a traumatic injury sustained in 1984. The best corrected visual acuity in his right eye is 20/200 and in his left eye, 20/20. Following an examination in 2008, his optometrist noted, “In my opinion, Mr. Watkins has sufficient vision to perform driving tasks required to operate a commercial vehicle.” Mr. Watkins reported that he has driven straight trucks for 10 years, accumulating 500,000 miles, and tractor-trailer combinations for 25 years, accumulating 3.0 million miles. He holds a Class D operator's license from Alabama. His driving record for the last 3 years shows no crashes and no convictions for moving violations in a CMV.

Request for Comments

In accordance with 49 U.S.C. 31136(e) and 31315, FMCSA requests public comment from all interested persons on the exemption petitions described in this notice. The Agency will consider all comments received before the close of business April 20, 2009. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: March 16, 2009.
Larry W. Minor,
Associate Administrator for Policy and Program Development.

[FR Doc. E9-6059 Filed 3-19-09; 8:45 am]

BILLING CODE 4910-EX-P